DEPARTMENT OF ENERGY

Federal Energy Regulatory Commission

Combined Notice of Filings

Take notice that the Commission has received the following Natural Gas Pipeline Rate and Refund Report filings:

Filings Instituting Proceedings

Docket Numbers: RP22-945-000.

Applicants: Gulfstream Natural Gas System, L.L.C.

Description: § 4(d) Rate Filing: Negotiated Rate—Amended Seminole Electric 9214212 to be effective 6/1/2022.

Filed Date: 5/31/22.

Accession Number: 20220531-5037.

Comment Date: 5 p.m. ET 6/13/22.

Docket Numbers: RP22-946-000.

Applicants: Texas Gas Transmission, LLC.

Description: § 4(d) Rate Filing: Texas Gas GMS Live Tariff Record Filing to be effective 7/1/2022.

Filed Date: 5/31/22.

Accession Number: 20220531-5069.

Comment Date: 5 p.m. ET 6/13/22.

Docket Numbers: RP22-947-000.

Applicants: Transcontinental Gas Pipe Line Company, LLC.

Description: § 4(d) Rate Filing: Negotiated Rates—Cherokee AGL—Replacement Shippers—Jun 2022 to be effective 6/1/2022.

Filed Date: 5/31/22.

Accession Number: 20220531-5070.

Comment Date: 5 p.m. ET 6/13/22.

Docket Numbers: RP22-948-000.

Applicants: Texas Eastern Transmission, LP.

Description: § 4(d) Rate Filing: Negotiated Rates—Various Releases eff 6-1-22 to be effective 6/1/2022.

Filed Date: 5/31/22.

Accession Number: 20220531-5139.

Comment Date: 5 p.m. ET 6/13/22.

Docket Numbers: RP22-949-000.

Applicants: Tennessee Gas Pipeline Company, L.L.C.

Description: § 4(d) Rate Filing: PCB Adjustment Period Extension through 2024 to be effective 7/1/2022.

Filed Date: 5/31/22.

Accession Number: 20220531-5146.

Comment Date: 5 p.m. ET 6/13/22.

Docket Numbers: RP22-950-000.

Applicants: MarkWest Pioneer, L.L.C.

Description: § 4(d) Rate Filing: Quarterly Fuel Adjustment Filing to be effective 7/1/2022.

Filed Date: 5/31/22.

Accession Number: 20220531-5166.

Comment Date: 5 p.m. ET 6/13/22.

Docket Numbers: RP22-951-000.

Applicants: East Cheyenne Gas Storage, LLC.

Description: § 4(d) Rate Filing: ECGS 2022-05-31 NAESB 3.2 Catch-Up Filing to be effective 6/1/2022.

Filed Date: 5/31/22.

Accession Number: 20220531-5182.

Comment Date: 5 p.m. ET 6/13/22.

Docket Numbers: RP22-952-000.

Applicants: Northern Natural Gas Company.

Description: § 4(d) Rate Filing: 20220531 Negotiated Rate to be effective 6/1/2022.

Filed Date: 5/31/22.

Accession Number: 20220531-5200.

Comment Date: 5 p.m. ET 6/13/22.

Docket Numbers: RP22-953-000.

Applicants: Kinder Morgan Louisiana Pipeline LLC.

Description: § 4(d) Rate Filing: Fuel Adjustment Effective July 1, 2022 to be effective 7/1/2022.

Filed Date: 5/31/22.

Accession Number: 20220531-5208.

Comment Date: 5 p.m. ET 6/13/22.

Docket Numbers: RP22-954-000.

Applicants: Algonquin Gas Transmission, LLC.

Description: § 4(d) Rate Filing: Negotiated Rates—Various Releases 6-1-22 to be effective 6/1/2022.

Filed Date: 5/31/22.

Accession Number: 20220531-5218.

Comment Date: 5 p.m. ET 6/13/22.

Docket Numbers: RP22-955-000.

Applicants: NEXUS Gas Transmission, LLC.

Description: § 4(d) Rate Filing: Negotiated Rates—Various Releases eff 6-1-2022 to be effective 6/1/2022.

Filed Date: 5/31/22.

Accession Number: 20220531-5240.

Comment Date: 5 p.m. ET 6/13/22.

Docket Numbers: RP22-956-000.

Applicants: Sea Robin Pipeline Company, LLC.

Description: § 4(d) Rate Filing: 5-31-22 Fuel Tracker to be effective 7/1/2022.

Filed Date: 5/31/22.

Accession Number: 20220531-5251.

Comment Date: 5 p.m. ET 6/13/22.

Docket Numbers: RP22-957-000.

Applicants: Maritimes & Northeast Pipeline, L.L.C.

Description: § 4(d) Rate Filing: Negotiated Rates—Northern to Emera to be effective 6/1/2022.

Filed Date: 5/31/22.

Accession Number: 20220531-5269.

Comment Date: 5 p.m. ET 6/13/22.

Docket Numbers: RP22-958-000.

Applicants: El Paso Natural Gas Company, L.L.C.

Description: § 4(d) Rate Filing: Negotiated Rate Agreement Update (SRP Jun-Aug 2022) to be effective 6/1/2022.

Filed Date: 5/31/22.

Accession Number: 20220531-5275.

Comment Date: 5 p.m. ET 6/13/22.

Docket Numbers: RP22-959-000.

Applicants: MountainWest Overthrust Pipeline, LLC.

Description: § 4(d) Rate Filing: Non-conforming TSA No. 5229 Amendment 20 to be effective 6/1/2022.

Filed Date: 6/1/22.

Accession Number: 20220601-5053.

Comment Date: 5 p.m. ET 6/13/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP17-913-006.

Applicants: Natural Gas Pipeline Company of America LLC.

Description: Compliance filing: Natural's Petition to Amend S&A of Settlement and Shorten the Comment Period to be effective N/A.

Filed Date: 5/31/22.

Accession Number: 20220531-5255.

Comment Date: 5 p.m. ET 6/13/22.

Docket Numbers: RP21-1187-000.

Applicants: Eastern Gas Transmission and Storage, Inc.

Description: Refund Report: EGTS—Report of Refunds to be effective N/A.

Filed Date: 5/31/22.

Accession Number: 20220531-5032.

Comment Date: 5 p.m. ET 6/13/22.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 1, 2022.
Debbie-Anne A. Reese,
Deputy Secretary.

[FR Doc. 2022-12240 Filed 6-6-22; 8:45 am]

BILLING CODE 6717-01-P